DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension collection of the Work Opportunity Tax Credit (WOTC) Program and the Welfare-to-Work (WtW) Tax Credit's reporting and administrative forms.

A copy of the proposed information collection request (ICR) can be obtained by contacting the office listed below in the addressee section of this notice.

DATES: Written comments must be submitted to the office listed in the addressee's section below on or before May 7, 2001.

ADDRESSES: Gay M. Gilbert, Division Chief, U.S. Employment Service/ALMIS, Office of Workforce Security, Room C-4514, Washington, DC 20210, (202) 693-3428 (this is not a toll-free number) and, Internet address: ggilbert@doleta.gov and/or fax number: 202/693-2874.

SUPPLEMENTARY INFORMATION: I. Data collected on the WOTC and the WtW Tax Credits will be collected by the State Employment Security and/or Workforce Development Agencies and provided to the U.S. Employment Service/ALMIS Division, Unit of Operations, Office of Career Transition and Assistance, Office of Workforce Security, Washington, DC, through the appropriate Department of Labor regional offices. The data will be used, primarily, to supplement IRS Form 8850, help expedite the processing of, either, employer requests for Certifications generated through IRS Form 8850 or issuance of Conditional Certifications (CCs) and processing of employer requests for Certifications as a result of individuals' bearing SESAs or participating agencies' generated CCs, help streamline SESAs verification mandated activities, aid and expedite the preparation of the quarterly reports, and provide a significant source of information for the Secretary's Annual Report to Congress on the WOTC program. The data recorded through the use of these forms will also help in the preparation of an annual report to the Committee House Ways and Means of the U.S. House of Representatives.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

• The Work Opportunity and Welfare-to-Work Tax Credits' reporting and administrative forms expire June 30, 2001. P.L. 106-170 reauthorized these two tax credits through December 31, 2001. Because the Congress reauthorizes these tax credits continuously for periods that range between one and three years, we are requesting a 2-year expiration date from approval date to continue the existing collection of information.

Type of Review: Extension.

Agency: Employment and Training Administration.

Title: Work Opportunity Tax Credit (WOTC) and Welfare-to-Work Tax (WtW) Credit.

OMB Number: 1205-0371.

Agency Number: ETA Forms 9057-59; 9061-63 and 9065.

Affected Public: State, Local or Tribal Government.

State Burden:

Cite/reference | Total respondents | Frequency | Total ¹ responses | Average Time/ response (hours) | Burden
Form 9057 | 52 | Quarterly | 208 | 8 | 1664
Form 9058 | 52 | Quarterly | 208 | 8 | 1664
Form 9059 | 52 | Quarterly | 208 | 8 | 1664
Form 9062 | 52 | Quarterly | 40 | 8 | 320
Form 9063 | 52 | Quarterly | 1000 | 1 | 1000
Form 9065 | 52 | Quarterly | 208 | 8 | 1664
Recordkeeping | 52 | Annually | 52 | 997 | 51844
Total |  |  | 1924 |  | 59820
¹ Nos. of “Total Responses” and “Average Time/Response” are only estimates and were obtained by calling several States and asking for the best possible estimates.

Employer/Consultants and Job Seekers
Cite/reference | Frequency | Total received | Average time response (hours) | Total hours
Form 9061 | 5 days | 200 | 8 hours | 1,600

Total Burden Hours: 61420.

Total Burden Cost (capital/startup): 0.

Total Burden Cost (operating/maintaining): 0.

Comments submitted in response to this comment request will be summarized and/or included in the request for Office of Management and Budget approval of the information collection request. They will also become a matter of public record.

Dated: February 28, 2001.
Gay M. Gilbert,
Signing Official, U.S. Employment Service/ALMIS, Division Chief, Office of Workforce Security.

[FR Doc. 01-5741 Filed 3-7-01; 8:45 am]

BILLING CODE 4510-30-M